DEPARTMENT OF ENERGY

Federal Energy Regulatory Commission

[Docket No. CP02-425-000]

Equitable Gathering LLC; Notice of Application

August 23, 2002.

Take notice that on August 14, 2002, Equitable Gathering LLC (Equitable), Four Allegheny Center, 9th Floor, Pittsburgh, PA 15212-5255, filed in Docket No. CP02-425-000, an application, pursuant to Section 7(c) of the Natural Gas Act (NGA), as amended, and the Federal Energy Regulatory Commission's (Commission) Rules and Regulations thereunder, for a limited jurisdiction certificate to allow Equitable to utilize certain facilities that Equitable intends to acquire from Columbia Gas Transmission Corporation (Columbia) which upon their acquisition from Columbia will have as their primary function the gathering of natural gas.¹ Equitable also request that the Commission consider its application on an expedited basis, so that authorization is effective no later than October 1, 2002, all as more fully set forth in the request which is on file with the Commission and open to public inspection. This filing is available for review at the Commission in the Public Reference Room or may be viewed on the Commission's website at http://www.ferc.gov using the “FERRIS” link. Enter the docket number excluding the last three digits in the docket number field to access the document. For Assistance, call (202)502-8222 or for TTY, (202) 208-1659.

¹ Columbia is filing an application to abandon the subject facilities pursuant to the Commission's prior notice procedures in [Docket No. CP02-426-000.

Equitable and Columbia entered into an agreement, dated April 11, 2002, in which Columbia will sell and Equitable will purchase the facilities known as the KA-8 System with the rights-of-way and appurtenances, which consists of: Line KA-11 (approximately 0.8 mile of 4-inch pipeline); Line KA-16 (approximately 0.1 mile of 4-inch pipeline); Line KA-7 (approximately 6 miles of 8-inch pipeline); Line KA-8 (approximately 15.5 miles of 8-inch pipeline); Harper Compressor Station (one 280 hp compressor unit); Raleigh Compressor Station (two 140 hp compressor units). Historically, the KA-8 facilities were used by Columbia to transport locally produced gas for delivery into Columbia's mainline system for redelivery to various markets. Additionally, the historical operation of the KA-8 facilities has included the provision of transportation service on behalf of Mountaineer Gas Company (Mountaineer), a local distribution company (LDC) subject to the jurisdiction of the West Virginia Public Service Commission. Such service included deliveries to about 100 field tap customers, and to approximately 8 town border stations at the city of Beckley, West Virginia.

According to Equitable, the agreement between Equitable and Columbia provides for Equitable to continue to provide service to Mountaineer at the field taps and the border stations at Beckley. Equitable states that during the winter operations when local production received into the KA-8 facilities will not be sufficient to meet the needs of the Mountaineer customers, then gas from Columbia's Line KA will flow north into the KA-8 facilities to supplement the local production. Equitable states that Columbia and Equitable have agreed that the Effective Date of the sale of the KA-8 facilities shall not occur until Columbia receives all necessary approvals fro the Commission to abandon such facilities and Equitable receives a limited jurisdiction certificate.

Equitable contends that it will utilize the facilities as part of its primary function of gathering with the occasional delivery of gas received from Columbia to Mountaineer through the gathering facilities being incidental to the primary gathering function of the facilities. Equitable also asks that it not be subjected to all the filing and accounting requirements applicable to interstate pipeline companies. Equitable states that it seeks only a limited jurisdiction certificate and will refuse any certificate that considers the primary purpose of the facilities to be interstate transmission with the full panalopy of regulatory requirements under the NGA. Equitable's application includes a discussion of the primary function of the KA-8 facilities. Columbia will sell the facilities to Equitable for the net depreciated book cost at the time of closing, estimated to be $2,000,000.

Any questions concerning this request may be directed to Gregory S. Davis, President, Equitable Gathering LLC, Four Allegheny Center, 9th Floor, Pittsburgh, PA, 15212-5255 at (412) 395-3000 or fax (412) 395-3155.

There are two ways to become involved in the Commission's review of this project. First, any person wishing to obtain legal status by becoming a party to the proceedings for this project should, on or before September 13, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link. The Commission strongly encourages electronic filings.

If the Commission decides to set the application for a formal hearing before an Administrative Law Judge, the Commission will issue another notice describing that process. At the end of the Commission's review process, a final Commission order approving or denying a certificate will be issued.

Linwood A. Watson, Jr.,
Deputy Secretary.

[FR Doc. 02-22025 Filed 8-27-02; 8:45 am]

BILLING CODE 6717-01-P